DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Action

On December 17, 2021, OFAC determined that the property and interests in property subject to U.S. jurisdiction of the following person is blocked pursuant to the relevant sanctions authority listed below.

Individual

1. DARASSA, Ali (a.k.a. DARAS, Ali; a.k.a. DARASSA, Ali Mahamat; a.k.a. DARRASSA, Ali; a.k.a. MAHAMANT, Ali Darassa; a.k.a. MAHAMAT, Ali Darassa), Alindao, Central African Republic; DOB 22 Sep 1978; POB Kabo, Ouham prefecture, Central African Republic; alt. POB Bousso, Chad; nationality Central African Republic; citizen Niger; alt. citizen Chad; Gender Male (individual) [CAR].

Designated pursuant to section 1(a)(ii)(C) of Executive Order 13667 (E.O. 13667) of May 12, 2014, “Blocking Property of Certain Persons Contributing to the Conflict in the Central African Republic,” for being a leader of an entity, including any armed group, that has, or whose members have, engaged in the targeting of women, children, or any civilians through the commission of acts of violence (including killing, maiming, torture, or rape or other sexual violence), abduction, forced displacement, or attacks on schools, hospitals, religious sites, or locations where civilians are seeking refuge, or through conduct that would constitute a serious abuse or violation of human rights or a violation of international humanitarian law.

Dated: December 17, 2021.
Bradley T. Smith,
Deputy Director, Office of Foreign Assets Control, U.S. Department of the Treasury.

[FR Doc. 2021-27842 Filed 12-22-21; 8:45 am]

BILLING CODE 4810-AL-P